DEPARTMENT OF TRANSPORTATION

Federal Aviation Administration

14 CFR Part 39

[Docket No. 2001-SW-62-AD; Amendment 39-12664; AD 2002-04-07]

RIN 2120-AA64

Airworthiness Directives; Eurocopter France Model AS350BA and B2 Helicopters

AGENCY: Federal Aviation Administration, DOT.

ACTION: Final rule; request for comments.

SUMMARY: This amendment adopts a new airworthiness directive (AD) for Eurocopter France (ECF) Model AS350BA and B2 helicopters modified with a Eurocopter Canada Limited (ECL) Left-side-Pilot Configuration kit in accordance with Canadian Supplemental Type Certificate (STC) SH96-32 or United States STC SR00429 NY. This action requires replacing the collective locking device with a newly-designed locking device. This amendment is prompted by a report of a locking device that engaged during flight. The actions specified in this AD are intended to prevent inadvertent engagement of a locking device, the collective pitch control locking in the full-down position, and subsequent loss of control of the helicopter.

DATES: Effective March 18, 2002.

The incorporation by reference of certain publications listed in the regulations is approved by the Director of the Federal Register as of March 18, 2002.

Comments for inclusion in the Rules Docket must be received on or before April 30, 2002.

ADDRESSES: Submit comments in triplicate to the Federal Aviation Administration (FAA), Office of the Regional Counsel, Southwest Region, Attention: Rules Docket No. 2001-SW-62-AD, 2601 Meacham Blvd., Room 663, Fort Worth, Texas 76137. You may also send comments electronically to the Rules Docket at the following address: 9-asw-adcomments@faa.gov.

The service information referenced in this AD may be obtained from Eurocopter Canada Limited, 1100 Gilmore Rd., Fort Erie, Ontario L2A 5M-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Carroll Wright, Aviation Safety Engineer, FAA, Rotorcraft Directorate, Regulations Group, Fort Worth, Texas 76193-0111, telephone (817) 222-5120, fax (817) 222-5961.

SUPPLEMENTARY INFORMATION: Transport Canada, the airworthiness authority for Canada, notified the FAA that an unsafe condition may exist on ECF Model AS350BA and B2 helicopters. Transport Canada advises of an incident involving an ECF Model AS350 helicopter, equipped with an ECL Left-Side Pilot Configuration kit, Canadian STC SH96-32 or United States STC SR00429 NY, in which the collective locking device engaged during flight.

ECL has issued Service Bulletin AS 350 BA, B2, No. ECL-99-67-002, Revision 2, dated September 23, 1999, which specifies replacing the collective locking device with a locking device that eliminates inadvertent engagement. Transport Canada classified this service bulletin as mandatory and issued AD No. CF-2000-06R1, dated August 23, 2000, to ensure the continued airworthiness of these helicopters in Canada.

These helicopter models are manufactured in France and are type certificated for operation in the United States under the provisions of 14 CFR 21.29 and the applicable bilateral agreement. The Left-Side Pilot Configuration kit was installed by ECL. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of the same type design registered in the United States. Therefore, this AD is being issued to prevent inadvertent engagement of a collective locking device, the collective control locking in the full-down position, and subsequent loss of control of the helicopter. The actions must be accomplished in accordance with the service bulletin described previously. The short compliance time involved is required because the previously described critical unsafe condition can adversely affect the controllability of the helicopter. Therefore, replacing the locking device with a new locking device within 50 hours time-in-service or 30 days, whichever occurs first, is required, and this AD must be issued immediately.

Since a situation exists that requires the immediate adoption of this regulation, it is found that notice and opportunity for prior public comment hereon are impracticable, and that good cause exists for making this amendment effective in less than 30 days.

The FAA estimates that 28 helicopters will be affected by this AD, that it will take approximately 5 work hours to install a locking device and that the average labor rate is $60 per work hour. ECL has represented to the FAA that for each Left-Side Pilot Configuration delivered with a previous version of the collective locking device, one set of applicable parts specified in the service bulletin will be made available free of charge. Based on these figures, the total cost impact of the AD on U.S. operators is estimated to be $8,400.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-62-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-04-07 Eurocopter France: Amendment 39-12664. Docket No. 2001-SW-62-AD.

Applicability: Model AS350BA and B2 helicopters, certificated in any category, modified with a Eurocopter Canada Limited (ECL) Left-Side Pilot Configuration kit in accordance with Canadian Supplemental Type Certificate (STC) SH96-32 or United States STC SR00429 NY.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 50 hours time-in-service or 30 days, whichever occurs first, unless accomplished previously.

To prevent inadvertent engagement of a collective control locking device, the collective pitch control locking in the full-down position, and subsequent loss of control of the helicopter, accomplish the following:

(a) Replace the collective control locking device with a redesigned locking device in accordance with the Accomplishment Instructions, paragraph 2, of ECL AS350 BA, B2 Service Bulletin No. ECL-99-67-002, Revision 2, dated September 23, 1999.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) Replacing the collective locking device shall be done in accordance with the Accomplishment Instructions, paragraph 2, of Eurocopter Canada Limited Service Bulletin AS 350 BA, B2, No. ECL-99-67-002, Revision 2, dated September 23, 1999. This incorporation by reference was approved by the Director of the Federal Register in accordance with 5 U.S.C. 552(a) and 1 CFR part 51. Copies may be obtained from Eurocopter Canada Limited, 1100 Gilmore Rd., Fort Erie, Ontario L2A 5M-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on March 18, 2002.

Note 3: The subject of this AD is addressed in Transport Canada (Canada) AD CF-2000-06R1, dated August 23, 2000.

Issued in Fort Worth, Texas, on February 19, 2002.
Mark R. Schilling,
Acting Manager, Rotorcraft Directorate, Aircraft Certification Service.

[FR Doc. 02-4555 Filed 2-27-02; 8:45 am]

BILLING CODE 4910-13-U